DEPARTMENT OF COMMERCE

International Trade Administration

[A-570-822, A-583-820]

Certain Helical Spring Lock Washers From the People's Republic of China and Taiwan: Final Results of the Expedited Fourth Five-Year Sunset Reviews of the Antidumping Duty Orders

AGENCY: Enforcement and Compliance, International Trade Administration, Department of Commerce.

SUMMARY: As a result of these reviews, the Department of Commerce (the Department) finds that revocation of the antidumping duty orders on certain helical spring lock washers (lock washers) from the People's Republic of China (PRC) and Taiwan would likely lead to a continuation or recurrence of dumping at the margins identified in the “Final Results of Review” section of this notice.

DATES: Effective March 7, 2017.

FOR FURTHER INFORMATION CONTACT: Joseph Shuler, AD/CVD Operations, Office I, Enforcement and Compliance, International Trade Administration, U.S. Department of Commerce, 1401 Constitution Avenue NW., Washington, DC 20230; telephone (202) 482-1293.

SUPPLEMENTARY INFORMATION:

Background

On November 1, 2016, the Department published the notice of initiation of the fourth sunset review of the antidumping duty orders on lock washers from Taiwan and the PRC pursuant to section 751(c) of the Tariff Act of 1930, as amended (the Act).¹ On November 4, 2016, the Department received a notice of intent to participate in both of these reviews from Shakeproof Assembly Components Division of Illinois Tool Works Inc. (the petitioner), within the deadline specified in 19 CFR 351.218(d)(1)(i). The petitioner claimed interested party status for both of these reviews under section 771(9)(C) of the Act, as a producer of the domestic like product.

¹ See Initiation of Five-Year (Sunset) Reviews, 81 FR 75808 (November 1, 2016).

On December 1, 2016, the Department received a complete substantive response from the petitioner for both reviews, within the deadline specified in 19 CFR 351.218(d)(3)(i). We received no substantive responses from any respondent interested parties. As a result, pursuant to section 751(c)(3)(B) of the Act and 19 CFR 351.218(e)(1)(ii)(C)(2), the Department conducted expedited sunset reviews of these antidumping duty orders.

Scope of the Orders

The products covered by the orders are lock washers of carbon steel, of carbon alloy steel, or of stainless steel, heat-treated or non-heat-treated, plated or non-plated, with ends that are off-line. Lock washers subject to the orders are currently classifiable under subheadings 7318.21.0000, 7318.21.0030, and 7318.21.0090 of the Harmonized Tariff Schedule of the United States (HTSUS). Although the HTSUS subheading is provided for convenience and customs purposes, the written description of the scope of this proceeding is dispositive.²

² A full description of the scope of the order is contained in the Memorandum from Senior Director, Office I, James Maeder to Acting Assistant Secretary Ronald K. Lorentzen, “Issues and Decision Memorandum for the Final Results of the Expedited Sunset Reviews of the Antidumping Duty Orders on Certain Helical Spring Lock Washers From the People's Republic of China (PRC) and Taiwan,” dated concurrently with and hereby adopted by this notice (Issues and Decision Memorandum).

Analysis of Comments Received

All issues raised in these reviews, including the likelihood of continuation or recurrence of dumping and the magnitude of the margins likely to prevail if the orders were revoked, are addressed in the Issues and Decision Memorandum. The Issues and Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Decision Memorandum can be accessed directly on the Internet at http://enforcement.trade.gov/frn.

Final Results of Sunset Reviews

Pursuant to sections 751(c)(1) and 752(c)(1), (2), and (3) of the Act, we determine that revocation of the antidumping duty orders on lock washers from the PRC and Taiwan would be likely to lead to continuation or recurrence of dumping up to the weighted-average margin percentages:

Country | Weighted- average margins (percent)
PRC | 189.81
Taiwan | 31.93

Notification to Interested Parties

This notice serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing these final results and notice in accordance with sections 751(c), 752(c), and 777(i)(1) of the Act and 19 CFR 351.218.

Dated: March 1, 2017.
Ronald K. Lorentzen,
Acting Assistant Secretary for Enforcement and Compliance.

[FR Doc. 2017-04419 Filed 3-6-17; 8:45 am]

BILLING CODE 3510-DS-P